FEDERAL TRADE COMMISSION

[File No. 172 3196]

Dun & Bradstreet, Inc.; Analysis of Proposed Consent Order to Aid Public Comment

AGENCY: Federal Trade Commission.

ACTION: Proposed consent agreement; request for comment.

SUMMARY: The consent agreement in this matter settles alleged violations of federal law prohibiting unfair or deceptive acts or practices. The attached Analysis of Proposed Consent Order to Aid Public Comment describes both the allegations in the draft complaint and the terms of the consent order—embodied in the consent agreement—that would settle these allegations.

DATES: Comments must be received on or before February 18, 2022.

ADDRESSES: Interested parties may file comments online or on paper by following the instructions in the Request for Comment part of the SUPPLEMENTARY INFORMATION section below. Please write “Dun & Bradstreet, Inc.; File No. 172 3196” on your comment and file your comment online at https://www.regulations.gov by following the instructions on the web-based form. If you prefer to file your comment on paper, mail your comment to the following address: Federal Trade Commission, Office of the Secretary, 600 Pennsylvania Avenue NW, Suite CC-5610 (Annex D), Washington, DC 20580, or deliver your comment to the following address: Federal Trade Commission, Office of the Secretary, Constitution Center, 400 7th Street SW, 5th Floor, Suite 5610 (Annex D), Washington, DC 20024.

FOR FURTHER INFORMATION CONTACT: Dana C. Barragate, Attorney (216-263-3402), Federal Trade Commission, East Central Region, 1111 Superior Avenue, Suite 200, Cleveland, OH 44114-2507.

SUPPLEMENTARY INFORMATION: Pursuant to Section 6(f) of the Federal Trade Commission Act, 15 U.S.C. 46(f), and FTC Rule 2.34, 16 CFR 2.34, notice is hereby given that the above-captioned consent agreement containing a consent order to cease and desist, having been filed with and accepted, subject to final approval, by the Commission, has been placed on the public record for a period of thirty (30) days. The following Analysis to Aid Public Comment describes the terms of the consent agreement and the allegations in the complaint. An electronic copy of the full text of the consent agreement package can be obtained at https://www.ftc.gov/news-events/commission-actions.

You can file a comment online or on paper. For the Commission to consider your comment, we must receive it on or before February 18, 2022. Write “Dun & Bradstreet, Inc.; File No. 172 3196” on your comment. Your comment—including your name and your state—will be placed on the public record of this proceeding, including, to the extent practicable, on the https://www.regulations.gov website.

Due to the COVID-19 pandemic and the agency's heightened security screening, postal mail addressed to the Commission will be subject to delay. We strongly encourage you to submit your comments online through the https://www.regulations.gov website.

If you prefer to file your comment on paper, write “Dun & Bradstreet, Inc.; File No. 172 3196” on your comment and on the envelope, and mail your comment to the following address: Federal Trade Commission, Office of the Secretary, 600 Pennsylvania Avenue NW, Suite CC-5610 (Annex D), Washington, DC 20580; or deliver your comment to the following address: Federal Trade Commission, Office of the Secretary, Constitution Center, 400 7th Street SW, 5th Floor, Suite 5610 (Annex D), Washington, DC 20024. If possible, submit your paper comment to the Commission by courier or overnight service.

Because your comment will be placed on the publicly accessible website at https://www.regulations.gov, you are solely responsible for making sure your comment does not include any sensitive or confidential information. Your comment should not include sensitive personal information, such as your or anyone else's Social Security number; date of birth; driver's license number or other state identification number, or foreign country equivalent; passport number; financial account number; or credit or debit card number. You are also solely responsible for making sure your comment does not include sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including competitively sensitive information such as costs, sales statistics, inventories, formulas, patterns, devices, manufacturing processes, or customer names.

Comments containing material for which confidential treatment is requested must be filed in paper form, must be clearly labeled “Confidential,” and must comply with FTC Rule 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted on the https://www.regulations.gov website—as legally required by FTC Rule 4.9(b)—we cannot redact or remove your comment from that website, unless you submit a confidentiality request that meets the requirements for such treatment under FTC Rule 4.9(c), and the General Counsel grants that request.

Visit the FTC website at http://www.ftc.gov to read this Notice and the news release describing the proposed settlement. The FTC Act and other laws that the Commission administers permit the collection of public comments to consider and use in this proceeding, as appropriate. The Commission will consider all timely and responsive public comments that it receives on or before February 18, 2022. For information on the Commission's privacy policy, including routine uses permitted by the Privacy Act, see https://www.ftc.gov/site-information/privacy-policy.

Analysis of Proposed Consent Order To Aid Public Comment

The Federal Trade Commission (“FTC” or “Commission”) has accepted, subject to final approval, an agreement containing a proposed consent order (“Proposed Order”) from Dun & Bradstreet, Inc. (“D&B”). The Proposed Order has been placed on the public record for 30 days to receive comments by interested persons. Comments received during this period will become part of the public record. After 30 days, the Commission will again review the agreement and the comments received and will decide whether it should withdraw from the agreement and take appropriate action or make final the agreement's Proposed Order.

This matter involves D&B's sale of paid CreditBuilder and related products (“CreditBuilder products”). D&B typically marketed CreditBuilder products to small and mid-sized businesses (who are the consumers in this matter) as a means to improve what D&B reports about the business on its commercial credit reports. The FTC's proposed five-count complaint challenges several of D&B's CreditBuilder sales and renewal practices as deceptive, and also alleges that certain conduct was unfair, all in violation of Section 5(a) of the Federal Trade Commission Act (“FTC Act”), 15 U.S.C. 45(a).

The first four counts of the proposed complaint allege deceptive acts or practices in violation of the FTC Act.

• First, the complaint alleges D&B's representations that a business could use CreditBuilder products to have previously unreported commercial payment experiences added to its credit report, and that D&B would actively assist CreditBuilder customers in adding payment experiences, were deceptive because, in numerous instances, customers did not get payment experiences added, and D&B did not actively assist the customer in adding payment experiences.

• Second, the complaint alleges D&B made false claims that CreditBuilder products were required for D&B to conduct a background check on the business or to complete its D&B report, including providing the business with a full set of scores and ratings.

• Third, the complaint alleges that, in connection with collecting updated payment information for CreditBuilder products scheduled to renew, D&B sometimes misrepresented that D&B was collecting payment for and renewing the product that the business purchased the prior term, when, in fact, D&B was collecting payment information to enroll the customer in a different product from the one to which the customer previously subscribed.

• Fourth, the complaint alleges that when D&B collected customer credit card information for payment, it failed to adequately disclose practices that resulted in recurring and increasing charges, including automatic billing.

In addition to the alleged deceptive marketing and renewal practices, the complaint alleges in its fifth count that D&B engaged in an unfair practice by reporting incorrect information on businesses' credit reports while failing to provide those businesses with a reasonable means to dispute such information and have inaccurate information corrected. The proposed complaint alleges this conduct caused or is likely to cause substantial injury to consumers that is not outweighed by countervailing benefits to consumers or competition and is not reasonably avoided by consumers themselves. Such practice constitutes an unfair act or practice in violation of Section 5 of the FTC Act.

The Proposed Order is designed to prevent D&B from engaging in similar acts or practices in the future. It includes injunctive relief to address these alleged violations.

• Part I prohibits future deceptive acts and practices similar to those at issue in the complaint by prohibiting D&B from misrepresenting:

○ That using D&B's product is likely to allow a business to have its previously unreported commercial payment experiences added to its credit report;

○ That D&B will actively assist a business in adding its unreported commercial payment experiences to its credit report;

○ That using D&B's product is likely to help a business build or improve its credit report;

○ The ease with which information or payment experiences can be added to a business's credit report; and

○ That D&B's product is needed when it is not, and that a product will enable a prospective customer to have a “complete” file.

• Part I also features ancillary relief relating to the challenged conduct by prohibiting misrepresentations relating to what payment experiences customers can add, as well as to D&B's renewal and charging practices.

• Part II provides additional specific relief relating to D&B's renewal and charging practices for products covered under the Proposed Order, to make sure that D&B makes clear disclosures about renewals both before a customer subscribes and during the period of the subscription.

• Parts III and IV require D&B to make certain disclosures to potential customers of CreditBuilder products, so that those potential customers can make better informed decisions about whether to purchase the products.

• Part V sets out specific requirements for D&B to follow when a business disputes information that D&B reports about it. The requirements of this Part V apply generally and are not limited only to D&B customers.

• Part VI requires D&B to offer refunds (or partial refunds) to certain customers and former customers of CreditBuilder products. Refund or partial refund eligibility under the Proposed Order will depend on customers' specific circumstances and how they used or attempted to use their CreditBuilder products.

• Part VII requires D&B to send notices to all current customers of paid products covered under the Proposed Order that automatically renew.

Parts VIII through XII are reporting and compliance provisions. Part VIII mandates that D&B acknowledge receipt of the Proposed Order and, for three years, distribute the Proposed Order to certain employees and agents and secure acknowledgments from recipients of the Proposed Order. Part IX requires D&B to submit compliance reports to the FTC one year after the order's issuance and submit additional reports when certain events occur. Part X requires that, for 10 years, D&B creates certain records and retain them for at least 5 years. Part XI provides for the FTC's continued compliance monitoring of D&B's activity during the Proposed Order's effective dates. Part XII is a provision “sunsetting” the Proposed Order after 20 years, with certain exceptions.

The purpose of this analysis is to facilitate public comment on the Proposed Order. It is not intended to constitute an official interpretation of the complaint or Proposed Order, or to modify in any way the Proposed Order's terms.

By direction of the Commission.
April J. Tabor,
Secretary.

[FR Doc. 2022-00938 Filed 1-18-22; 8:45 am]

BILLING CODE 6750-01-P